DEPARTMENT OF HEALTH AND HUMAN SERVICES

Centers for Disease Control and Prevention

Advisory Board on Radiation and Worker Health (ABRWH), National Institute for Occupational Safety and Health (NIOSH); Correction

Notice is hereby given of a change in the meeting of the Advisory Board on Radiation and Worker Health (ABRWH), National Institute for Occupational Safety and Health (NIOSH); February 24, 2021, 10:30 a.m. to 4:00 p.m., EST which was published in the Federal Register on December 23, 2020, Volume 85, Number 247, page 83964.

The Matters to be Considered should read as follows:

SUPPLEMENTARY INFORMATION:

Matters to be Considered: The agenda will include discussions on: Work Group and Subcommittee Reports; Update on the Status of SEC Petitions; and plans for the April 2021 Advisory Board Meeting. Agenda items are subject to change as priorities dictate.

FOR FURTHER INFORMATION CONTACT: Rashaun Roberts, Ph.D., Designated Federal Officer, NIOSH, CDC, 1090 Tusculum Avenue, Mailstop C-24, Cincinnati, Ohio 45226, Telephone (513) 533-6800, Toll Free 1(800)CDC-INFO, Email ocas@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-01889 Filed 1-27-21; 8:45 am]

BILLING CODE 4163-18-P